DEPARTMENT OF AGRICULTURE

Food and Nutrition Service

7 CFR Part 246

[FNS-2006-0037]

RIN 0584-AD77

Special Supplemental Nutrition Program for Women, Infants and Children (WIC): Revisions in the WIC Food Packages; Approval of Information Collection Request

AGENCY: Food and Nutrition Service, USDA.

ACTION: Interim rule; notice of approval of Information Collection Request (ICR).

SUMMARY: The interim rule entitled Special Supplemental Nutrition Program for Women, Infants and Children (WIC): Revisions in the WIC Food Packages was published on December 6, 2007. The Office of Management and Budget cleared the associated information collection requirements (ICR) on December 7, 2007. This document announces approval of the ICR.

DATES: The ICR associated with the interim rule published in the Federal Register on December 6, 2007, at 72 FR 68966, was approved by OMB on December 7, 2007, under OMB Control Number 0584-0545.

FOR FURTHER INFORMATION CONTACT: Debra Whitford, Chief, Policy and Program Development Branch, Supplemental Food Programs Division, Food and Nutrition Service, USDA, 3101 Park Center Drive, Room 528, Alexandria, Virginia 22302, (703) 305-2746, OR Debbie.Whitford@fns.usda.gov.

Dated: January 29, 2008.
Gloria Gutierrez,
Acting Administrator, Food and Nutrition Service.

[FR Doc. E8-2030 Filed 2-4-08; 8:45 am]

BILLING CODE 3410-30-P